DEPARTMENT OF LABOR

Employment and Training Administration

Program Reporting and Performance Standards System for Indian and Native American Programs Under Title I, Section 166 of the Workforce Innovation and Opportunity Act (WIOA), Extension With Revision; OMB Control No. 1205-0422

AGENCY: Employment and Training Administration (ETA), Labor.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA 95) [44 U.S.C. 3506(c)(2)(A)]. This program helps to ensure that requested data can be provided in the desired format, reporting burden (time and financial resources) is minimized, collection instruments are clearly understood, and the impact of collection requirements on respondents can be properly assessed. This notice utilizes standard clearance procedures in accordance with the Paperwork Reduction Act of 1995 and 5 CFR 1320.12.

DATES: Written comments must be submitted to the office listed in the ADDRESSES section below on or before June 21, 2016.

ADDRESSES: Submit written comments to U.S. Department of Labor, Employment and Training Administration, Office of Workforce Investment, attn: Athena R. Brown, Room N-4209, 200 Constitution Avenue NW., Washington, DC 20210. Telephone number: 202-693-3737 (this is not a toll-free number).

SUPPLEMENTARY INFORMATION:

I. Background

Each Indian and Native American (INA) grantee receiving WIOA, Section 166 funds (non-Pub. L. 102-477 grantees) to administer the Comprehensive Services Program (CSP) is required to submit a CSP Report (ETA Form 9084) on a quarterly basis. Grantees receiving WIOA Section 166 Supplemental Youth Services Program (SYSP) funds (non-Pub. L. 102-477 grantees) currently submit a SYSP Report (ETA Form 9085) semi-annually. This request is to extend the existing ETA Form 9084 and 9085 report submitted each quarter, or semi-annually, by INA grantees. The only revision to the ETA 9085 is to increase the age range for youth to twenty-four years old per the WIOA.

ETA requires the collection and reporting of data on eligible persons served under the WIOA, Section 166 CSP and SYSP to assess the performance and delivery of services. The current ETA forms 9084 and 9085 expire on September 30, 2016. This request is to extend the instructions and forms currently used until such time when the WIOA Final Rule and policy guidance are issued. Subsequently, a revised Information Collection Request will be required to comply with the Final Rule. In the interim, ETA will continue to administer the INA programs under the Workforce Investment Act (WIA) Final Rule.

II. Review Focus

The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the collection of information on those who are to respond, including through the use of appropriate automated, electronic, mechanical, or other technological collection techniques or other forms of information technology, e.g., permitting electronic submissions of responses.

III. Current Actions

Type of Review: Extension with revision.

Title: “Program Reporting and Performance Standards System for Indian and Native American Programs Under Title I, Section 166 of the Workforce Innovation and Opportunity Act.”

OMB Number: 1205-0422.

Affected Public: Tribal governments and non-profits.

Total Respondents: 123 and 81.

Frequency of Collection: quarterly (CSP) and semi-annually (SYSP).

Total Responses: 327.

Average Time in Hours per Respondent: 26.5 for the ETA-9084, 24 for the ETA-9085, and 2.5 for the SPIR.

Estimated Total Burden Hours: 19,596.

Total Annual Costs Burden: $0.

Comments submitted in response to this comment request will be summarized and/or included in the request for Office of Management and Budget approval of the information collection request; they will also become a matter of public record.

Dated: Signed in Washington, DC, on this 13th day of March 2016.
Portia Wu,
Assistant Secretary, Employment and Training Administration.

[FR Doc. 2016-09381 Filed 4-21-16; 8:45 am]

BILLING CODE 4510-FR-P